DEPARTMENT OF COMMERCE

National Oceanic and Atmospheric Administration

50 CFR Part 679

[Docket No. 070711313-7637-03]

RIN 0648-AV62

Fisheries of the Exclusive Economic Zone Off Alaska; Groundfish, Crab, Salmon, and Scallop Fisheries of the Bering Sea and Aleutian Islands Management Area

AGENCY: National Marine Fisheries Service (NMFS), National Oceanic and Atmospheric Administration (NOAA), Commerce.

ACTION: Proposed rule; request for comments.

SUMMARY: NMFS issues a proposed rule that would implement Amendment 88 to the Fishery Management Plan for Groundfish of the Bering Sea and Aleutian Islands Management Area. This amendment, if approved, would revise the Aleutian Islands Habitat Conservation Area (AIHCA) boundary to allow nonpelagic trawling in an area historically fished and to prohibit nonpelagic trawling in an area of known coral and sponge occurrence. This action is necessary to ensure the AIHCA protects areas of coral and sponge habitat from the potential effects of nonpelagic trawling and allow nonpelagic trawling in areas historically fished and without evidence of coral and sponge occurrence.

DATES: Written comments must be received by January 7, 2008.

ADDRESSES: You may submit comments, identified by 0648-AV62, by any one of the following methods:

• Electronic Submissions: Submit all electronic public comments via the Federal eRulemaking Portal http://www.regulations.gov;

• Mail: Sue Salveson, Assistant Regional Administrator, Sustainable Fisheries Division, Alaska Region, NMFS, P.O. Box 21668, Juneau, AK 99802; Attn: Ellen Sebastian, Records Officer;

• Hand delivery: 709 West 9th Street, Room 420A, Juneau, AK; or

• Fax: 907-586-7557, Attention: Sue Salveson.

Instructions: All comments received are a part of the public record and will generally be posted to http://www.regulations.gov without change. All Personal Identifying Information (for example, name, address, etc.) voluntarily submitted by the commenter may be publicly accessible. Do not submit Confidential Business Information or otherwise sensitive or protected information. NMFS will accept anonymous comments. Attachments to electronic comments will be accepted in Microsoft Word, Excel, WordPerfect, or Adobe PDF file formats only.

Copies of the map of the AIHCA and the Environmental Assessment/Regulatory Impact Review/Initial Regulatory Flexibility Analysis (EA/RIR/IRFA) for this action may be obtained from the addresses stated above or from the Alaska Region NMFS website at http://www.fakr.noaa.gov.

FOR FURTHER INFORMATION CONTACT: Melanie Brown, 907-586-7228 or email at melanie.brown@noaa.gov.

SUPPLEMENTARY INFORMATION: The groundfish, crab, scallop, and salmon fisheries in the exclusive economic zone (EEZ) off Alaska are managed under their respective fishery management plans (FMPs). The North Pacific Fishery Management Council (Council) prepared the FMPs under the authority of the Magnuson-Stevens Fishery Conservation and Management Act (Magnuson-Stevens Act). Regulations implementing the FMPs appear at 50 CFR parts 679 and 680. General regulations governing U.S. fisheries also appear at 50 CFR part 600. The groundfish fishery restrictions for the AIHCA described in the groundfish FMP are implemented by regulations at 50 CFR part 679. Revisions to the AIHCA also are described in the proposed Amendment 23 to the FMP for BSAI King and Tanner Crabs, Amendment 12 to the FMP for Scallop Fisheries off Alaska, and Amendment 9 to the FMP for Salmon Fisheries in the Exclusive Economic Zone off the Coast of Alaska. No regulatory amendments are needed for implementing these FMP amendments due to a prohibition on using nonpelagic trawl gear in the crab, scallop, and salmon fisheries.

The Council has submitted the amendments for the AIHCA revision for review by the Secretary of Commerce, and a Notice of Availability of the amendments was published in the Federal Register on November 13, 2007 (72 FR 63871), with comments on the amendments invited through January 14, 2008. Comments may address the FMP amendments, the proposed rule, or both, but must be received by January 7, 2008, to be considered in the approval/disapproval decision on the FMP amendments. All comments received by that time, whether specifically directed to the FMP amendments or to the proposed rule, will be considered in the approval/disapproval decision on the FMP amendments.

Background

In 2006, NMFS implemented essential fish habitat (EFH) protection measures for the Aleutian Islands subarea and adjacent State of Alaska (State) waters (71 FR 36694, June 28, 2006, and corrected at 72 FR 63500, November 9, 2007). The background on the development of the EFH protection measures is available in the proposed rule for that action (71 FR 14470, March 22, 2006). The EFH protection measures prohibited nonpelagic trawling within the AIHCA. The AIHCA is the Aleutian Islands subarea and adjacent State waters except for specific sites that remain open to nonpelagic trawling. Locations open to nonpelagic trawling in the AIHCA included areas without known occurrences of coral and sponge habitat and where nonpelagic trawling previously occurred. A map of the AIHCA is available from the NMFS Alaska Region website at http://www.fakr.noaa.gov/habitat/efh/aihca.pdf.

In March 2007, the Council recommended two revisions to the boundaries of the AIHCA. These revisions were developed in response to corrections provided by the nonpelagic trawl industry regarding fishing locations and additional information on coral and sponge occurrence in the Aleutian Islands.

The two revisions would revise the AIHCA boundaries near Agattu Island and Buldir Island (see figure below). The proposed rule would prohibit nonpelagic trawling in an area west of Buldir Island and would permit nonpelagic trawling in an area north of Agattu Island.

NMFS is proposing to open the area near Agattu Island to nonpelagic trawling because no evidence of coral or sponge habitat exists in this area, and nonpelagic trawling historically has occurred in this location. NMFS is proposing to close the area near Buldir Island because NMFS surveys show corals and sponges occur in this area. Anecdotal information also indicated that nonpelagic trawlers avoid the proposed Buldir Island closure area to protect fishing gear from damage by bottom structures. Details of the fishing history and biological features of these sites are available in the EA/RIR/IRFA for this action (see ADDRESSES).

The proposed rule would revise the coordinates for the boundaries of the AIHCA near Agattu Island and Buldir Island. Table 24 to 50 CFR part 679 contains coordinates for sites where nonpelagic trawling is permitted in the AIHCA. Table 24 would be revised to specify the coordinates near Agattu and Buldir Islands to adjust the boundaries of the AIHCA to allow for nonpelagic trawling near Agattu Island and prohibit nonpelagic trawling near Buldir Island, as shown in the figure above. The proposed rule would modify the coordinates for the Buldir and Semichi areas listed on Table 24. The Semichi area includes the waters near Agattu Island proposed to be opened to nonpelagic trawling. Because the proposed rule would divide the Buldir Island open area into two areas to allow for the closure area, the proposed rule would add the West Buldir site to Table 24. The proposed rule also would remove the site number for each site because the site number serves no additional purpose in the identification of the site beyond that provided by the site name. The proposed rule also would remove from Table 24 two redundant sets of coordinates for the Buldir site because they are not necessary to accurately describe the boundaries.

Classification

Pursuant to section 304 (b)(1)(A) of the Magnuson-Stevens Act, the NMFS Assistant Administrator has determined that this proposed rule is consistent with Amendment 88 to the FMP for Groundfish of the BSAI, other provisions of the Magnuson-Stevens Act, and other applicable law, subject to further consideration after public comment.

This proposed rule has been determined to be not significant for the purposes of Executive Order 12866.

NMFS prepared an initial regulatory flexibility analysis (IRFA), as required by section 603 of the Regulatory Flexibility Act (RFA). The IRFA describes the economic impact this proposed rule, if adopted, would have on small entities. Descriptions of the action, the reasons it is under consideration, and its objectives and legal basis, are contained earlier in the preamble and in the SUMMARY section of the preamble. A summary of the analysis follows. A copy of this analysis is available from NMFS (see ADDRESSES).

Vessels were considered small, according to the Small Business Administration (SBA) criteria, if they had estimated 2004 gross revenues less than or equal to $4 million, and were not known to be affiliated with other firms whose combined receipts exceeded $4 million.

Ten vessels that qualify as small entities under SBA criteria are directly regulated by this action. Six of these vessels are catcher vessels, and four are catcher/processors. Average gross revenues in 2005 were about $1,400,000 for the catcher vessels and about $2,200,000 for the catcher/processors.

This regulation does not impose new recordkeeping and reporting requirements on the regulated small entities.

The IRFA did not reveal any Federal rules that duplicate, overlap, or conflict with the proposed action.

The Council considered one alternative (Alternative 1, no action) to the preferred alternative for this action. The boundaries of the opened and closed areas were based on information provided by the fishing industry regarding historical fishing activity and on NMFS survey information regarding coral and sponge location. This is the method of boundary identification used in the original EFH rule for the AIHCA. Because this is a correction to that rule, the identification of boundaries for the opened and closed areas for this action is based on the same method. No other alternatives were identified because the action is an adjustment to the AIHCA boundaries based on corrected fishing information and NMFS survey information, and no additional information regarding adjustments to the AIHCA was available. No other boundaries of the opened or closed areas for the AIHCA were considered because no additional information was available to support other boundary alternatives.

The status quo condition of the fishery should be based on the 2006 fishery because of the recent implementation of the EFH protection measures (71 FR 36694, June 28, 2006), but 2006 data were not yet available for the analysis. Therefore, 2001 through 2005 data were used as a proxy for status quo. Vessel monitoring system (VMS) and NMFS inseason catch data were used to analyze the catches in the proposed Agattu and Buldir Islands opened and closed areas. These types of data allowed for determining the fine scale location of fishing activities in combination with the estimated harvest from the proposed opened and closed areas.

The no action alternative would not meet the objectives of this action. The status quo alternative would allow fishing in an area of known coral and sponge occurrence and would prohibit fishing in an area that had historical fishing activity. This would not meet the intent of the Council for the AIHCA and does not meet the objectives of the action to provide continued fishing where historical fishing activity has occurred and to prohibit fishing where coral and sponges occur. Moreover, the IRFA did not identify discernable adverse impacts to small entities from this action. In fact, as noted in the preamble, this action may have positive benefits for small entities because more historical fishing activity occurred in the area to be opened by this action, than in the area to be closed. Vessels that are not small entities will likely experience the same benefits as small entities by being allowed to fish in an area historically fished, and no adverse impacts are expected for these vessels.

List of Subjects in 50 CFR Part 679

Alaska, Fisheries, Recordkeeping and reporting requirements.

Dated: November 16, 2007.
Samuel D. Rauch III
Deputy Assistant Administrator for Regulatory Programs, National Marine Fisheries Service.

For reasons set out in the preamble, NMFS proposes to amend 50 CFR part 679 as follows:

PART 679—FISHERIES OF THE EXCLUSIVE ECONOMIC ZONE OFF ALASKA

1. The authority citation for part 679 continues to read as follows:

Authority: 16 U.S.C. 773 et seq.; 1801 et seq.; 3631 et seq.; Pub. L. 108-447

2. Revise Table 24 to part 679 to read as follows:

BILLING CODE 3510-22-S

[FR Doc. 07-5774 Filed 11-20-07; 8:45 am]

BILLING CODE 3510-22-C